DEPARTMENT OF JUSTICE

National Drug Intelligence Center

Agency Information Collection Activities: Proposed Collection; Comments Requested

ACTION: Notice of Information Collection Under Review; New Collection; National Drug Threat Survey.

The Department of Justice, National Drug Intelligence Center (NDIC) submits the following information collection request to the Office of Management and Budget (OMB) for review and clearance in accordance with the Paperwork Reduction Act of 1995. This proposed information collection was previously published in the Federal Register on January 25, 2001, (Volume 66, Number 17) allowing for a 60-day public comment period. The purpose of this notice is to allow an additional 30 days for public comment until April 30, 2001. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20503. Written comments and suggestions from the public and affected agencies concerning the proposed collection of information should address one or more of the following four points:

1. Evaluate whether the proposed collection of information is necessary for the proper performance of the functions of the agency, including whether the information will have practical utility;

2. Evaluate the accuracy of the agencies' estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of this information collection:

1. Type of Information Collection: New Collection.

2. Title of the Form/Collection: National Drug Threat Survey.

3. Agency form number, if any, and the applicable component of the Department of Justice sponsoring the collection: Form #A-34-National Drug Intelligence Center.

4. Affected public who will be asked or required to respond, as well as a brief abstract: Primary: State and local law enforcement agencies. This survey is a critical component of the National Drug Threat Assessment. It provides direct access to detailed drug offense data from state and local law enforcement agencies.

5. An estimate of the total number of respondents and the amount of time estimated for an average respondent to respond: 2,500 responses at 3 hours per response.

6. An estimate of the total public burden (in hours) associated with the collection: 7,500 annual burden hours.

If additional information is required contact: Mr. Robert B. Briggs, Clearance Officer, United States Department of Justice, Information Management and Security Staff, Justice Management Division, Suite 1220, National Place Building 1331 Pennsylvania Avenue, NW., Washington, DC 20530.

Dated: March 26, 2001.
Robert B. Briggs,
Department Clearance Officer, United States Department of Justice.

[FR Doc. 01-7864 Filed 3-29-01; 8:45 am]

BILLING CODE 4410-DC-M